DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Rapid Anti-Depressant Response Produced by Low Dose Treatment with Anti-Muscarinic Drugs

Maura Furey and Wayne Drevets (NIMH).

U.S. Patent Application No. 11/137,114 filed 25 May 2005 (HHS Reference No. E-175-2004/0-US-01).

Licensing Contact: Norbert Pontzer; 301/435-5502; pontzern@mail.nih.gov.

Available for licensing are new methods of rapidly treating depression. The drugs currently used to treat depression work by increasing the activity at serotonin, norepinephrine and perhaps dopamine receptors in the CNS. However these drugs are effective in only 60-70% of patients, require 3-4 weeks of treatment before clinical improvement and have many side effects. These inventors have shown that in human patients, the administration of anti-muscarinic agents produces a rapid, prolonged alleviation of depressive symptoms. Beginning the day following administration of the anti-muscarinic agent, a majority of patients show significant improvements in mood, anxiety, sleep and other depressive symptoms that last days or weeks. The very slow dissociation of some muscarinic agents from their receptors may account for the prolonged therapeutic effects.

In addition to licensing, the technology is available for further development through collaborative research opportunities with the inventors.

Dated: January 23, 2006.
Steven M. Ferguson,
Director, Division of Technology Development and Transfer, Office of Technology Transfer, National Institutes of Health.

[FR Doc. E6-1286 Filed 1-31-06; 8:45 am]

BILLING CODE 4140-01-P